NUCLEAR REGULATORY COMMISSION

[Docket No. 50-309]

Notice of Availability of Environmental Assessment and Finding of No Significant Impact Regarding a Request for Exemption From the Recordkeeping Requirements of 10 CFR Part 50 Appendix A Criterion 1, 10 CFR Part 50 Appendix B Section XVII and, 10 CFR Part 50 Section 50.59(d)(3), for the Maine Yankee Nuclear Plant

ACTION: Notice of Availability of Environmental Assessment (EA) and Finding of No Significant Impact (FONSI) regarding a request for exemption from the recordkeeping requirements of 10 CFR Part 50 Appendix A criterion 1, 10 CFR Part 50 Appendix B Section XVII, and 10 CFR Part 50 Section 50.59(d)(3) for the Maine Yankee Nuclear Plant.

FOR FURTHER INFORMATION CONTACT: John T. Buckley, Decommissioning Branch, Division of Waste Management, Office of Nuclear Material Safety and Safeguards, U.S. Nuclear Regulatory Commission, Washington, DC 20555-0001. Telephone: (301) 415-6607, fax number (301) 415-5398.

SUPPLEMENTARY INFORMATION:

I. Introduction

The U.S. Nuclear Regulatory Commission (NRC) is considering issuance of a exemption from the recordkeeping requirements of 10 CFR Part 50 Appendix A criterion 1, 10 CFR Part 50 Appendix B Section XVII, and 10 CFR Part 50 Section 50.59(d)(3), for the Maine Yankee Nuclear Plant, Wiscasset, ME. In a letter dated July 14, 2003, Maine Yankee Atomic Power Company (MY) requested an exemption which will allow the disposal of records when: (1) The nuclear power unit and its associated support systems no longer exist for structures, systems and components (SSCs) associated with safe power generation; or (2) spent nuclear fuel has been completely transferred from the spent fuel pool for SSCs associated with the safe storage of fuel in the spent fuel pool. MY is not requesting any exemption associated with recordkeeping requirements for storage of spent fuel in its independent spent fuel storage installation (ISFSI) under 10 CFR Part 50 or the general license requirements of 10 CFR Part 72.

The NRC staff has prepared an EA in support of this action in accordance with the requirements of 10 CFR Part 51. The conclusion of the EA is a FONSI for the proposed action.

II. Environmental Assessment Summary

The proposed action would allow the licensee to dispose of records, prior to termination of License No. DPR-36, that: (1) Are associated with the SSCs for the nuclear power generation unit; and (2) are associated with the spent fuel pool SSCs.

The NRC has evaluated the licensee's requested exemption and concluded that it is administrative in nature. Additionally, there are no radiological environmental impacts associated with the proposed action; nor, are there any nonradiological environmental impacts associated with the proposed action.

III. Finding of No Significant Impact

NRC has prepared an EA in support of the licensee's application for an exemption request. On the basis of the EA, the NRC concludes that the proposed action will not have a significant effect on the quality of the human environment. Accordingly, the NRC has determined not to prepare an environmental impact statement for the proposed action.

IV. Further Information

The EA and documents related to this action are available for inspection at NRC's Public Electronic reading Room at; http://www.nrc.gov/NRC/ADAMS/index.html. The ADAMS Accession No. for the licensee's exemption request is ML032040178. The ADAMS Accession No. for the staff's EA is ML033100451. Documents may also be examined, and/or copied for a fee, at the NRC Public Document Room (PDR), located at One White Flint North, 11555 Rockville Pike, Rockville, MD, 20852. Any actions with respect to this action should be referred to John T. Buckley, Division of Waste Management, Office of Nuclear Material Safety and Safeguards, Telephone (301) 415-6607.

Dated at Rockville, Maryland, this 5th day of November, 2003.
For the Nuclear Regulatory Commission.
Claudia M. Craig,
Acting Chief, Decommissioning Branch, Division of Waste Management, Office of Nuclear Material Safety and Safeguards.

[FR Doc. 03-28749 Filed 11-17-03; 8:45 am]

BILLING CODE 7590-01-P